FEDERAL COMMUNICATIONS COMMISSION

[GN Docket No. 17-208; FR ID 17381]

Meeting of the Communications Equity and Diversity Council

AGENCY: Federal Communications Commission.

ACTION: Notice.

SUMMARY: In accordance with the Federal Advisory Committee Act, this notice announces the November 7, 2022, meeting of the Federal Communications Commission's (Commission) Communications Equity and Diversity Council (CEDC or Council).

DATES: Monday, November 7, 2022, from 1:00 p.m. EST to 3:00 p.m. EST.

ADDRESSES: The CEDC meeting will be held virtually and be available to the public for viewing via the internet at http://www.fcc.gov/live.

FOR FURTHER INFORMATION CONTACT: Jamila Bess Johnson, Designated Federal Officer (DFO) of the CEDC, (202) 418-2608, Jamila-Bess.Johnson@fcc.gov; Keyla Hernandez-Ulloa, Co-Deputy DFO of the CEDC, (202) 418-0965, Keyla.Hernandez-Ulloa@fcc.gov; or Aurélie Mathieu, Attorney Advisor, WCB, at (202) 418-2194 or Aurelie.Mathieu@fcc.gov.

SUPPLEMENTARY INFORMATION:

Proposed Agenda: The agenda for the meeting will include a report of the Digital Empowerment and Inclusion (DEI) Working Group, including recommendations, for addressing digital redlining and other barriers that impact equitable access to broadband and other emerging technology in under-served and under-connected communities. This agenda may be modified at the discretion of the CEDC Chair and the DFO.

The CEDC meeting will be accessible to the public on the internet via live feed from the Commission's web page at www.fcc.gov/live. Members of the public may submit questions during the meeting to livequestions@fcc.gov. Additionally, members of the public may submit comments to the CEDC using the FCC's Electronic Comment Filing System, ECFS, at www.fcc.gov/ecfs. Comments to the CEDC should be filed in GN Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request. Please allow at least five days' notice; last minute requests will be accepted but may not be possible to accommodate.

Federal Communications Commission.
Thomas Horan,
Chief of Staff, Media Bureau.

[FR Doc. 2022-22969 Filed 10-20-22; 8:45 am]

BILLING CODE 6712-01-P